DEPARTMENT OF JUSTICE

Federal Bureau of Investigation

[OMB Number 1110-NEW]

Agency Information Collection Activities; Proposed eCollection eComments Requested; New Collection

AGENCY: Laboratory Division-RSU, Federal Bureau of Investigation, Department of Justice.

ACTION: 60-Day notice.

SUMMARY: The Laboratory Division-RSU, Federal Bureau of Investigation, Department of Justice, is submitting the following information collection request to the Office of Management and Budget (OMB) for review and approval in accordance with the Paperwork Reduction Act of 1995.

DATES: The Department of Justice encourages public comment and will accept input until September 27, 2022.

FOR FURTHER INFORMATION CONTACT: If you have additional comments especially on the estimated public burden or associated response time, suggestions, or need a copy of the proposed information collection instrument with instructions or additional information, please contact Libby Stern, Research Chemist, Federal Bureau of Investigation Laboratory Division, Research and Support Unit, 2501 Investigation Ave, Quantico, VA 22135, geophysics@fbi.gov, 703-632-7825.

SUPPLEMENTARY INFORMATION: Written comments and suggestions from the public and affected agencies concerning the proposed collection of information are encouraged. Your comments should address one or more of the following four points:

➢ Evaluate whether the proposed collection of information is necessary for the proper performance of the functions of the Federal Bureau of Investigation, Laboratory Division-RSU, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: New collection.

2. The Title of the Form/Collection: Metal Detector Use in Crime Scene Investigations

3. The agency form number, if any, and the applicable component of the Department sponsoring the collection: FBI IRB number 644-22. The applicable component within the Department of Justice is the Federal Bureau of Investigation, Laboratory Division-RSU.

4. Affected public who will be asked or required to respond, as well as a brief abstract: Federal Government, State, Local or Tribal Government. Those completing the questionnaires are either active or retired law enforcement personnel. This research study consists of a questionnaire to gather information on the applications metal detectors for law enforcement at crime scene investigations. Participants will be asked what were the composition of law enforcement targets and the environment which they are searching for said targets. An objective of the questionnaire is to learn if advance methods of detection were used to identify suspected targets such as a ground penetrating radar or magnetometer. The results may be published and used to understand applications of metal detectors by law enforcement at crime scenes.

5. An estimate of the total number of respondents and the amount of time estimated for an average respondent to respond: We expect no more than 100 individuals completing the questionnaire. On average, we expect an average of 10-15 minutes to complete the questionnaire.

6. An estimate of the total public burden (in hours) associated with the collection: 25 hours.

If additional information is required contact: Robert Houser, Assistant Director, Policy and Planning Staff, Justice Management Division, United States Department of Justice, Two Constitution Square, 145 N Street NE, 3E.405A, Washington, DC 20530.

Dated: July 26, 2022.
Robert Houser,
Assistant Director, Policy and Planning Staff, Office of the Chief Information Officer, U.S. Department of Justice.

[FR Doc. 2022-16330 Filed 7-28-22; 8:45 am]

BILLING CODE 4410-02-P